FEDERAL COMMUNICATIONS COMMISSION

47 CFR Part 73

[DA 00-2422; MM Docket Nos. 00-215, 00-216; RM-9994, RM-9995]

Radio Broadcasting Services (Aspen, Colorado; McKinleyville, California)

AGENCY: Federal Communications Commission.

ACTION: Proposed rule.

SUMMARY: The Commission seeks comment on two petitions for rule making. The first, filed by Roaring Forks Broadcasting, Inc., requests the allotment of Channel 228A at Aspen, Colorado, as the community's third local FM service. The second, filed by Four Rivers Broadcasting Inc., requests the allotment of Channel 236C3 at McKinleyville, California, as the community's first local aural transmission service.

Channel 228A can be allotted to Aspen in compliance with the Commission's minimum distance separation requirements, with respect to domestic allotments, without the imposition of a site restriction, at coordinates 39-11-24 NL and 106-49-06 WL. Channel 236C3 can be allotted to McKinleyville in compliance with the Commission's minimum distance separation requirements, with respect to domestic allotments, without the imposition of a site restriction at coordinates 40-56-42 NL and 124-05-54 WL.

DATES: Comments must be filed on or before December 18, 2000, and reply comments on or before January 2, 2001.

ADDRESSES: Federal Communications Commission, 445 12th Street, SW., Room TW-A325, Washington, DC 20554. In addition to filing comments with the FCC, interested parties in MM Docket No. 00-215 should serve petitioner Four Rivers Broadcasting Inc., or its counsel or consultant, as follows: Meredith Senter, Jr., Leventhal, Senter & Lerman, Suite 600, Washington, DC 20006-1809. Interested parties in MM Docket No. 00-216 should serve petitioner Four Rivers Broadcasting, Inc., or its counsel or consultant, as follows: Howard M. Weiss, Fletcher, Heald & Hildreth, 1300 N. 17th St., 11th Floor, Arlington, VA 22209.

FOR FURTHER INFORMATION CONTACT: Victoria M. McCauley, Mass Media Bureau, (202) 418-2180.

SUPPLEMENTARY INFORMATION: This is a synopsis of the Commission's Notice of Proposed Rule Making, Docket Nos. 00-215, 00-216, adopted October 18, 2000, and released October 27, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for Part 73 continues to read as follows:

Authority: 47 U.S.C 154, 303, 334 and 336.

§ 73.202 [Amended]

2. Section 73.202(b), the Table of FM Allotments under Colorado, is amended by adding Channel 228A at Aspen.

3. Section 73.202(b), the Table of FM Allotments under California, is amended by adding McKinleyville, Channel 236C3.

Federal Communications Commission.
John A. Karousos,
Chief, Allocations Branch, Policy and Rules Division, Mass Media Bureau.

[FR Doc. 00-28913 Filed 11-9-00; 8:45 am]

BILLING CODE 6712-01-U